DEPARTMENT OF HEALTH AND HUMAN SERVICES

Centers for Disease Control and Prevention

[60Day-15-15MZ]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Digital Media and Tobacco Outcomes Study—New—National Center for Chronic Disease Prevention and Health Promotion (NCCDPHP), Centers for Disease Control and Prevention (CDC).

Background and Brief Description

In 2012, CDC launched the first federally funded, national mass media campaign to educate consumers about the adverse health consequences of tobacco use (the National Tobacco Prevention and Control Public Education Campaign, or “the campaign”). The campaign continued in 2013 and 2014 with advertisements known as “Tips from Former Smokers.” CDC plans to continue the campaign in 2015 and 2016, with new ads scheduled for release between March and July, 2015. CDC is conducting a series of longitudinal surveys to assess campaign impact in both smokers and nonsmokers (OMB No. 0920-0923, exp. 3/31/2017). The campaign evaluation strategy is based on self-reported measures of consumer awareness of and exposure to specific campaign advertisements; changes in consumer knowledge, attitudes, and beliefs relating to smoking and secondhand smoke; smokers' behaviors related to cessation; and nonsmokers' encouragement of smokers to quit smoking and seek cessation services.

The campaign includes digital advertising, which is now a mainstay of tobacco prevention campaigns because of the efficiency of digital ad placement, lower costs associated with digital ads, and the ability to reach individuals who do not use traditional media. Digital advertising also offers a unique opportunity to examine the relationship between ad exposure and consumer behavior. For example, Internet analytic tools can be used to verify an individual's exposure to a digital ad or to ascertain whether an individual has visited Web-based sources of information about tobacco use or tobacco cessation. These tools and methods provide objective measures of ad exposure and information-seeking behavior and are not subject to the recall bias inherent in self-reported data.

To supplement ongoing campaign evaluation efforts, CDC proposes to employ Internet analytic tools as part of an enhanced evaluation of the digital ad component of the mass media campaign. The evaluation study will not be conducted in the general U.S. population of Internet users. Individuals who participate in the proposed evaluation will be smokers recruited from an existing panel of adult Internet users who have agreed to allow monitoring of their Internet usage. Panels of this type are established and utilized by market research firms to elucidate consumer behavior. Panelists agree to download software on their computers that enables the market research company to unobtrusively track their web behavior, including Web sites visited, searches they conduct, purchases they make, and ads that are delivered on sites visited, regardless of whether the ads are selected (clicked) or not. These data are then aggregated and weighted to provide estimates of online consumer behaviors.

CDC will employ an evaluation contractor to interface with a market research company and tobacco smokers who are part of an existing panel. For panelists who agree to participate in the Digital Media and Tobacco Outcomes Study, the contractor will analyze Internet usage data in conjunction with additional information collected directly from the study participants. All information collection will be coordinated with key events in the 2015 mass media campaign.

In the recruitment phase of the study, panelists will be notified about the CDC-sponsored study and will have the opportunity to voluntarily consent to participate or decline to participate. They will also provide demographic information and be screened for eligibility. In the second phase, respondents will complete an online questionnaire soon after the digital ads have been aired (Wave 1 survey). Information will be collected about smokers' exposure to campaign digital advertisements and self-reported knowledge, attitudes, and beliefs related to smoking, and smoking-related information seeking. The questionnaire will also measure behaviors related to smoking cessation and intentions to quit smoking. In the third phase of the study, the same online questionnaire will be administered to respondents approximately 30 days after completion of the first survey (Wave 2 survey).

CDC and the evaluation contractor will use the Internet usage data and the survey information collected from study participants to examine the statistical relationships between confirmed exposure (or non-exposure) to the campaign's digital and social media advertising and outcomes of interest for campaign evaluation. The study will provide CDC with new, timely, and relevant information regarding the reach and efficacy of the digital advertising component of the campaign in 2015. All findings will be interpreted in light of known limitations of the methodology, such as use of a convenience sample of respondents.

OMB approval is requested for one year. Participation is voluntary and there are no costs to respondents other than their time.

Estimated Annualized Burden Hours
Type of respondent | Form name | Number of respondents | Number of responses per respondent | Average burden per response (in hours) | Total burden (in hours)
Market Research Panelists | Screening and Consent Questionnaire | 50,000 | 1 | 2/60 | 1,667
Adult Panelists Who Are Tobacco Smokers | Digital Media and Tobacco Outcomes Questionnaire (Wave 1) | 5,000 | 1 | 20/60 | 1,667
| Digital Media and Tobacco Outcomes Questionnaire (Wave 2) | 2,400 | 1 | 20/60 | 800
Total |  |  |  |  | 4,134

Leroy A. Richardson,
Chief, Information Collection Review Office, Office of Scientific Integrity, Office of the Associate Director for Science, Office of the Director, Centers for Disease Control and Prevention.

[FR Doc. 2015-02327 Filed 2-5-15; 8:45 am]

BILLING CODE 4163-18-P